DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 5, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: December 21, 2016.
Roy E. Wright,
Deputy Associate Administrator for Insurance and Mitigation, Department of Homeland Security, Federal Emergency Management Agency.

Community | Community map repository address
Adair County, Iowa and Incorporated Areas
Docket No.: FEMA-B-1540
City of Bridgewater | City Hall, 105 North Main Street, Bridgewater, IA 50837.
City of Fontanelle | City Hall, 313 Washington Street, Fontanelle, IA 50846.
City of Stuart | City Hall, 119 East Front Street, Stuart, IA 50250.
Unincorporated Areas of Adair County | Adair County Courthouse, 400 Public Square, Suite 5, Greenfield, IA 50849.
Adams County, Iowa and Incorporated Areas
Docket No.: FEMA-B-1540
City of Carbon | City Hall, 300 B Street, Carbon, IA 50839.
City of Corning | City Hall, 601 6th Street, Corning, IA 50841.
City of Nodaway | Community Building, 300 7th Avenue, Nodaway, IA 50857.
City of Prescott | City Hall, 607 2nd Street, Prescott, IA 50859.
Unincorporated Areas of Adams County | Adams County Courthouse, 500 9th Street, Corning, IA 50841.
Guthrie County, Iowa and Incorporated Areas
Docket No.: FEMA-B-1540
City of Bagley | City Hall, 207 Main Street, Bagley, IA 50026.
City of Bayard | City Hall, 403 Main Street, Bayard, IA 50029.
City of Casey | City Hall, 503 McPherson Street, Casey, IA 50048.
City of Guthrie Center | City Hall, 102 North 1st Street, Guthrie Center, IA 50115.
City of Jamaica | City Hall, Clerk's Office, 202 Van Nest Street, Jamaica, IA 50128.
City of Panora | City Hall, 102 Northwest 2nd Street, Panora, IA 50216.
Unincorporated Areas of Guthrie County | Guthrie County Courthouse, 200 North 5th Street, Guthrie Center, IA 50115.
Taylor County, Iowa and Incorporated Areas
Docket No.: FEMA-B-1540
City of Bedford | City Hall, 625 Court Avenue, Bedford, IA 50833.
City of Blockton | City Hall, 405 Division Street, Blockton, IA 50836.
City of Conway | City Hall, 308 Broad Street, Conway, IA 50833.
City of Gravity | City Hall, 304 Main Street, Gravity, IA 50848.
City of Lenox | City Hall, 200 South Main Street, Lenox, IA 50851.
Unincorporated Areas of Taylor County | Taylor County Courthouse, 405 Jefferson Street, Bedford, IA 50833.
Jackson County, Oregon and Incorporated Areas
Docket No.: FEMA-B-1542
City of Ashland | City of Ashland, 51 Winburn Way, Ashland, OR 97520.
Unincorporated Areas of Jackson County | Jackson County Development Services, 10 South Oakdale Avenue, Room 100, Medford, OR 97501.
Metropolitan Government of Nashville and Davidson County, Tennessee and Incorporated Areas
Docket No.: FEMA-B-1404
City of Belle Meade | Belle Meade City Hall, 4705 Harding Road, Nashville, TN 37205.
City of Berry Hill | Berry Hill City Hall, 698 Thompson Lane, Nashville, TN 37204.
City of Forest Hills | Forest Hills City Hall, 6300 Hillsboro Pike, Nashville, TN 37215.
City of Goodlettsville | City Hall, 105 South Main Street, Goodlettsville, TN 37072.
City of Oak Hill | Oak Hill City Hall, 5548 Franklin Pike, Suite 101, Nashville, TN 37220.
Metropolitan Government of Nashville and Davidson County.. | Metro Nashville Public Works Department, 800 Second Avenue South, Nashville, TN 37219.
Willacy County, Texas and Incorporated Areas
Docket No.: FEMA-B-1546
Unincorporated Areas of Willacy County | Willacy County Courthouse, 576 West Main Avenue, Raymondville, TX 78580.

[FR Doc. 2017-01374 Filed 1-19-17; 8:45 am]

BILLING CODE 9110-12-P